DEPARTMENT OF TRANSPORTATION

Federal Aviation Administration

14 CFR Part 39

[Docket No. FAA-2015-2568; Directorate Identifier 2014-SW-026-AD]

RIN 2120-AA64

Airworthiness Directives; Airbus Helicopters (Previously Eurocopter France) Helicopters

AGENCY: Federal Aviation Administration (FAA), DOT.

ACTION: Notice of proposed rulemaking (NPRM).

SUMMARY: We propose to supersede airworthiness directive (AD) 2014-07-52 for certain Airbus Helicopters (previously Eurocopter France) Model AS350B, AS350BA, AS350B1, AS350B2, AS350B3, AS350C, AS350D, AS350D1, AS355E, AS355F, AS355F1, AS355F2, AS355N, and AS355NP helicopters. AD 2014-07-52 currently requires repetitively inspecting certain reinforcement angles of the rear structure to tailboom junction frame (reinforcement angles) for a crack at 10 hour time-in-service (TIS) intervals, repairing any cracked reinforcement angle, and allows an optional repetitive inspection with a 165 hour TIS inspection interval as a terminating action for the 10 hour TIS inspections. This proposed AD would retain the inspection requirements of AD 2014-07-52 and require the inspection of the area around each reinforcement angle screw hole as terminating action to the 10 hour TIS inspections. These proposed actions are intended to detect a crack in the reinforcement angle, which if not corrected, could result in loss of the tailboom and subsequent loss of control of the helicopter.

DATES: We must receive comments on this proposed AD by September 21, 2015.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the European Aviation Safety Agency (EASA) AD, the economic evaluation, any comments received and other information. The street address for the Docket Operations Office (telephone 800-647-5527) is in the ADDRESSES section. Comments will be available in the AD docket shortly after receipt.

For service information identified in this proposed AD, contact Airbus Helicopters, Inc., 2701 N. Forum Drive, Grand Prairie, TX 75052; telephone (972) 641-0000 or (800) 232-0323; fax (972) 641-3775; or at http://www.airbushelicopters.com/techpub. You may review service information at the FAA, Office of the Regional Counsel, Southwest Region, 10101 Hillwood Pkwy., Room 6N-321, Fort Worth, TX 76177.

FOR FURTHER INFORMATION CONTACT: Robert Grant, Aviation Safety Engineer, Safety Management Group, FAA, 10101 Hillwood Pkwy., Fort Worth, TX 76177; telephone (817) 222-5110; email robert.grant@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

On May 21, 2014, we issued AD 2014-07-52, Amendment 39-17858, 79 FR 33054, June 10, 2014) for Airbus Helicopters Model AS350B, AS350BA, AS350B1, AS350B2, AS350B3, AS350C, AS350D, AS350D1, AS355E, AS355F, AS355F1, AS355F2, AS355N, and AS355NP helicopters with Modification (MOD) 07 3215 installed or with a reinforcement angle, part-number (P/N) 350A08.2493.21 or 350A08.2493.23, installed. AD 2014-07-52 requires, for helicopters with 640 or more hours TIS, within 10 hours TIS and thereafter at intervals not exceeding 10 hours TIS, repetitively inspecting each reinforcement angle for a crack. If there is a crack, AD 2014-07-52 requires, before further flight, repairing the reinforcement angle. As an optional terminating action for the repetitive 10 hour TIS inspections, AD 2014-07-52 allows a repetitive 165 hour TIS inspection of the reinforcement angle under each attaching screw for a crack.

AD 2014-07-52 was prompted by Emergency AD No. 2014-0076-E, dated March 25, 2014, issued by EASA, which is the Technical Agent for the Member States of the European Union, to correct an unsafe condition for Airbus Helicopters Model AS350B, AS350BA, AS350BB, AS350B1, AS350B2, AS350B3, AS350D, AS355E, AS355F, AS355F1, AS355F2, AS355N, and AS355NP helicopters with MOD 07 3215 or with at least one reinforcement angle, P/N 350A08.2493.21 or P/N 350A08.2493.23, installed. EASA advises that during the inspection of several AS355 helicopters, cracks found in the reinforcement angles had initiated on the non-visible surface of the angle, and that this condition, if not corrected, could lead to further crack propagation and subsequent loss of the tailboom, resulting in loss of control of the helicopter. The EASA AD requires repetitive inspections of the reinforcement angles, and states that a terminating action is under investigation.

Actions Since AD 2014-07-52 Was Issued

Since we issued AD 2014-07-52 (79 FR 33054, June 10, 2014), we have determined that the optional terminating action in AD 2014-07-52 should be a required terminating action. This NPRM would retain the actions in AD 2014-07-52 but would require the 165-hour TIS visual inspection as terminating action for the 10-hour TIS inspections. In addition, because MOD 07 3215 installed reinforcement angle P/Ns 350A08.2493.21 and 350A08.2493.23, AD 2014-07-52 was written to apply to helicopters with either the reinforcement angle P/Ns or with MOD 07 3215, so that operators could more easily determine whether AD 2014-07-52 applied to their aircraft. Airbus Helicopters then developed MOD 07 3232, which removes reinforcement angle P/N 350A08.2493.21 and P/N 350A08.2493.23. Because a helicopter with both MOD 07 3215 and MOD 07 3232 in its aircraft records would not have reinforcement angle P/N 350A08.2493.21 or P/N 350A08.2493.23 installed, this NPRM would revise the applicability to no longer include helicopters with MOD 07 3215 and to include a note clarifying that the AD would not apply if MOD 07 3232 is installed.

Comments

After AD 2014-07-52 (79 FR 33054, June 10, 2014), was published, we received comments from three commenters.

Request

Two commenters requested that the AD not be applicable to aircraft with MOD 07 3232 installed, as this modification improved the attachment at the junction frame to prevent cracking.

We partially agree. Although AD 2014-07-52 does not apply to helicopters with MOD 07 3232 installed, we have revised the language in the proposed AD so that this exclusion is more clear.

Two commenters requested that we increase the time between inspections or allow the repetitive inspections to end if no cracks are found after a few inspections. The commenters stated that the inspection frequency of the repetitive 165-hour TIS inspection is excessive and that if correctly installed, the doublers do not crack. One commenter stated that in practice the 165-hour inspection is being completed at every 100-hour inspection to avoid repeated grounding of the aircraft. Another commenter stated that frequent removal of the bolts and nuts could affect the airworthiness of the aircraft.

We do not agree. Analysis has demonstrated that cracking has been found in more than one location, which indicates there may be more than one cause of the cracking. The uncertainty regarding the root cause of the cracking supports requiring the 165-hour TIS inspections without any changes.

FAA's Determination

These helicopters have been approved by the aviation authority of France and are approved for operation in the United States. Pursuant to our bilateral agreement with France, EASA, its technical representative, has notified us of the unsafe condition described in its AD. We are proposing this AD because we evaluated all known relevant information and determined that an unsafe condition is likely to exist or develop on other products of the same type design.

Related Service Information Under 1 CFR Part 51

Airbus Helicopters issued Emergency Alert Service Bulletin (EASB) No. 05.00.70 for Model AS350B, BA, BB, Bl, B2, B3, and D helicopters and EASB No. 05.00.62 for Model AS355E, F, F1, F2, N, and NP helicopters, both Revision 0 and dated March 24, 2014. EASB No. 05.00.70 and EASB No. 05.00.62 describe procedures for inspecting the angle reinforcements for a crack. This service information is reasonably available because the interested parties have access to it through their normal course of business or by the means identified in the ADDRESSES section of this NPRM.

Proposed AD Requirements

This proposed AD would retain the 10 hour TIS repetitive inspection of the junction frame required by AD 2014-07-52 (79 FR 33054, June 10, 2014), and would also require the repetitive 165 hour TIS inspection of the junction frame bores as a terminating action for the 10 hour TIS inspection. This proposed AD would also revise the applicability paragraph by no longer including helicopters with MOD 07 3215.

Differences Between This Proposed AD and the EASA AD

This proposed AD is not applicable to the AS350BB as that model is not type certificated in the U.S. This proposed AD applies to Airbus Helicopters Model AS350C and AS350D1 helicopters because these helicopters have a similar design. Finally, the EASA AD requires operators to contact Airbus Helicopters if there is a crack, and this proposed AD does not, however it does require repairing the crack before further flight.

Interim Action

We consider this proposed AD to be an interim action. If final action is later identified, we might consider further rulemaking then.

Costs of Compliance

We estimate that this proposed AD would affect 822 helicopters of U.S. Registry. We estimate that operators may incur the following costs in order to comply with this proposed AD. At an average labor rate of $85 per hour, inspecting the reinforcement angles for a crack without removing the screws would require 1.0 work-hour, for a cost per helicopter of $85 and a total cost of $69,870 for the U.S. fleet per inspection cycle. Removing the screws and inspecting the reinforcement angle would require 2 work-hours, for a cost per helicopter of $170 and a total cost of $139,740 for the U.S. fleet, per inspection cycle. If required, repairing a cracked reinforcement angle would require about 10 work-hours, and required parts would cost about $300, for a total cost per helicopter of $1,150.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2014-07052, Amendment 39-17858 (79 FR 33054, June 10, 2014), and adding the following new AD:

Airbus Helicopters (previously Eurocopter France): Docket No. FAA-2015-2568; Directorate Identifier 2014-SW-026-AD.

(a) Applicability

This AD applies to Airbus Helicopters Model AS350B, AS350BA, AS350B1, AS350B2, AS350B3, AS350C, AS350D, AS350D1, AS355E, AS355F, AS355F1, AS355F2, AS355N, and AS355NP helicopters, with a reinforcement angle part number (P/N) 350A08.2493.21 or P/N 350A08.2493.23 installed, certificated in any category.

Note 1 to paragraph (a) of this AD: Helicopters with Modification (MOD) 073232 do not have P/N 350A08.2493.21 or P/N 350A08.2493.23 installed.

(b) Unsafe Condition

This AD defines the unsafe condition as a crack in a rear structure to tailboom junction frame reinforcement angle (reinforcement angle), which if not detected could result in loss of the tail boom and subsequent loss of control of the helicopter.

(c) Affected ADs

This AD supersedes AD 2014-07-52, Amendment 39-17858 (79 FR 33054, June 10, 2014).

(d) Comments Due Date

We must receive comments by September 21, 2015.

(e) Compliance

You are responsible for performing each action required by this AD within the specified compliance time unless it has already been accomplished prior to that time.

(f) Required Actions

(1) For helicopters with 640 or more hours time-in-service (TIS) since installation of MOD 07 3215 or since installation of an applicable reinforcement angle, within 10 hours TIS, and thereafter at intervals not exceeding 10 hours TIS, inspect each reinforcement angle for a crack as depicted in Figure 1 of Airbus Helicopters Emergency Alert Service Bulletin No. 05.00.70 for Model AS350B, AS350BA, AS350B1, AS350B2, AS350B3, AS350C, AS350D, and AS350D1 helicopters and Airbus Helicopters Emergency Alert Service Bulletin No. 05.00.62 for AS355E, AS355F, AS355F1, AS355F2, AS355N, and AS355NP helicopters, both Revision 0 and dated March 24, 2014.

(2) If there is a crack, before further flight, repair the reinforcement angle in a manner approved by the manager listed in paragraph (h)(1) of this AD.

(3) Within 165 hours TIS after the first inspection required by paragraph (f)(1) of this AD, and thereafter at intervals not exceeding 165 hours TIS, remove screw No. 5 from the reinforcement angle, thoroughly clean the area around the hole and inspect the reinforcement angle for a crack. If there is not a crack, reinstall the screw. Sequentially repeat the steps required by this paragraph for screws No. 6 through No. 12. If there is a crack, comply with paragraph (f)(2) of this AD. Accomplishment of the inspection required by this paragraph terminates the repetitive inspections required by paragraph (f)(1) of this AD.

(g) Special Flight Permit

Special flight permits are prohibited.

(h) Alternative Methods of Compliance (AMOCs)

(1) The Manager, Safety Management Group, FAA, may approve AMOCs for this AD. Send your proposal to: Robert Grant, Aviation Safety Engineer, Safety Management Group, FAA, 10101 Hillwood Pkwy., Fort Worth, TX 76177; telephone (817) 222-5110; email robert.grant@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(3) AMOCs approved previously in accordance with AD 2014-07-52, Amendment 39-17858 (79 FR 33054, June 10, 2014) are approved as AMOCs for the corresponding requirements of paragraph (f)(2) of this AD.

(i) Additional Information

The subject of this AD is addressed in European Aviation Safety Agency (EASA) AD 2014-0076-E, dated March 25, 2014. You may view the EASA AD on the Internet at http://www.regulations.gov in Docket No. FAA-2015-2568.

(j) Subject

Joint Aircraft Service Component (JASC) Code: 5302: Rotorcraft Tailboom.

Issued in Fort Worth, Texas, on July 15, 2015.
Bruce E. Cain,
Acting Directorate Manager, Rotorcraft Directorate, Aircraft Certification Service.

[FR Doc. 2015-17952 Filed 7-22-15; 8:45 am]

BILLING CODE 4910-13-P